DEPARTMENT OF LABOR

Employment and Training Administration

[TA-W-60,320; TA-W-60,320A]

Agilent Technologies, Global Infrastructure Organization, Santa Clara, CA; Including an Employee in Support of Agilent Technologies, Global Infrastructure Organization, Santa Clara, CA Located in Loveland, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 21, 2006, applicable to workers of Agilent Technologies, Global Infrastructure Organization, Santa Clara, California. The notice was published in the Federal Register on December 8, 2006 (71 FR 71195).

At the request of company officials, the Department reviewed the certification for workers of the subject firm. New information shows that a worker separation occurred involving an employee in support of the Santa Clara, California facility of Agilent Technologies, Global Infrastructure Organization located in Loveland, Colorado.

Mr. David Herder provided management function services of the Global Infrastructure Organization's programs and suppliers for the Santa Clara, California location of the subject firm.

Based on these findings, the Department is amending this certification to include an employee in support of the Santa Clara, California facility of Agilent Technologies, Global Infrastructure Organization, located in Loveland, Colorado.

The intent of the Department's certification is to include all workers of Agilent Technologies, Global Infrastructure Organization, Santa Clara, California who were adversely affected by increased company imports.

The amended notice applicable to TA-W-60,320 is hereby issued as follows:

”All workers of Agilent Technologies, Global Infrastructure Organization, Santa Clara, California (TA-W-60,320), and including an employee in support of Agilent Technologies, Global Infrastructure Organization, Santa Clara, California, located in Loveland, Colorado (TA-W-60,320A), who became totally or partially separated from employment on or after October 24, 2005, through November 21, 2008, are eligible to apply for adjustment assistance under Section 223 of the Trade Act of 1974 and are also eligible to apply for alternative trade adjustment assistance under Section 246 of the Trade Act of 1974.”

Signed at Washington, DC this 5th day of July 2007.
Richard Church,
Certifying Officer, Division of Trade Adjustment Assistance.

[FR Doc. E7-13780 Filed 7-16-07; 8:45 am]

BILLING CODE 4510-FN-P